DEPARTMENT OF AGRICULTURE

Submission for OMB Review; Comment Request

May 16, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Grain Inspection, Packers & Stockyards Administration

Title: Inspection Report—Insects in Grain.

OMB Control Number: 0580-NEW.

Summary of Collection: An agreement dated November 5, 1981, between the Grain Inspection, Packers & Stockyard Administration (GIPSA) and the Animal and Plant Health Inspection Service (APHIS), Plant Protection and Quarantine originally outlined procedures and responsibilities for the phytosanitary inspection and certification of export grain. The United States is a signatory of the International Plant Protection Convention of the Food and Agriculture Organization which requires a phytosanitary certificate to be issued for certain agricultural products. Official agencies and GIPSA are jointly responsible for providing official grading, inspection, and sampling services to aid in the efficient marketing of grain, grain by products, rice, and other graded commodities covered under the United States Grain Standards Act and the Agricultural Marketing Act in interstate and foreign commerce.

Need and Use of the Information: When live adult insects, larvae, or other pests are found in export shipments, the type of pest (if identifiable), the rate of occurrence for each type of pest, the sublot number, and the hold number(s) carrier information shall be recorded on Form FGIS 921, Inspection Log (vessels), and Form FGIS 921-2, Inspection Report—Insects in Grain. All insect and other pests are identified by common name on the report, so that APHIS can issue a Federal Phytosanitary Certificate; or inform GIPSA and the exporter or their agent of the circumstances which prevent the issuance of a phytosanitary certificate.

Description of Respondents: Business or other for-profit; Federal Government; State, Local or Tribal Government.

Number of Respondents: 35.

Frequency of Responses: Recordkeeping; Reporting: On occasion; Weekly; Monthly; Semi-annually; Annually.

Total Burden Hours: 180.

Ruth Brown,
Departmental Information Collection Clearance Officer.

[FR Doc. E6-7645 Filed 5-18-06; 8:45 am]

BILLING CODE 3410-KD-P